DEPARTMENT OF COMMERCE

National Oceanic and Atmospheric Administration

[RTID 0648-XF074]

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council (Council) will hold public meetings of the Council including joint session with the Atlantic States Marine Fisheries Commission (ASMFC) Interstate Fishery Management Programs (ISFMP) Policy Board and the Bluefish and Summer Flounder, Scup, and Black Sea Bass Management Boards.

DATES: The meetings will be held Monday, August 11 through Thursday, August 14, 2025. For agenda details, see SUPPLEMENTARY INFORMATION.

ADDRESSES: This meeting will be an in-person meeting with a virtual option. Council members, other meeting participants, and members of the public will have the option to participate in person at The Westin Annapolis (100 Westgate Circle, Annapolis, MD 21401) or virtually via Webex webinar. Webinar connection instructions and briefing materials will be available at: https://www.mafmc.org/briefing/august-2025.

Council address: Mid-Atlantic Fishery Management Council, 800 N. State St., Suite 201, Dover, DE 19901; telephone: (302) 674-2331; www.mafmc.org.

FOR FURTHER INFORMATION CONTACT: Christopher M. Moore, Ph.D. Executive Director, Mid-Atlantic Fishery Management Council; telephone: (302) 526-5255. The Council's website, www.mafmc.org, also has details on the meeting location, proposed agenda, webinar listen-in access, and briefing materials.

SUPPLEMENTARY INFORMATION: The following items are on the agenda, although agenda items may be addressed out of order (changes will be noted on the Council's website when possible).

Monday, August 11

Executive Order on Restoring American Seafood Competitiveness

Develop prioritized list of recommendations for submission to NOAA Fisheries

South Atlantic Fishery Management Council (SAFMC) Blueline Tilefish Letter

Review correspondence from the SAFMC regarding blueline tilefish

Discuss next steps

Tuesday, August 12

2026-2028 Illex Squid Specifications

Review Illex assessment and alternative quota evaluation method

Review recommendations from the Scientific and Statistical Committee (SSC), Monitoring Committee, Advisory Panel, and staff

Adopt specifications and management measures for 2026-2028

Overview of SQUIBS Longfin Squid Data Collection Program (Dr. Anna Mercer, Cooperative Research Branch Chief, Northeast Fisheries Science Center (NEFSC))

Overview of the recently completed Squibs data project

Atlantic Sea Scallop Research Track Assessment

Overview of the recently completed Research Track stock assessment and peer review

LUNCH

Council Convenes With the Atlantic States Marine Fisheries Commission (ASMFC) Interstate Fishery Management Program (ISFMP) Policy Board

Recreational Sector Separation Amendment

Review and provide feedback on preliminary conceptual alternatives

Discuss plans for addressing recreational data collection issues removed from this amendment

ISFMP Policy Board Adjourns

Council Convenes With the ASMFC Bluefish Management Board

2026-2027 Bluefish Specifications

Review recommendations from the SSC, Monitoring Committee, Advisory Panel and staff

Adopt specifications for 2026-2027, including recreational management measures

Council Adjourns

ASMFC Bluefish Board Only

ASMFC Bluefish Fishery Management Plan review

Wednesday, August 13

Council Convenes With the ASMFC Summer Flounder, Scup, and Black Sea Bass Management Board

2026-2027 Summer Flounder Specifications

Review recommendations from the SSC, Monitoring Committee, Advisory Panel and staff

Adopt specifications for 2026-2027

Review and revise 2026-2027 commercial measures if needed

2026-2027 Scup Specifications

Review recommendations from the SSC, Monitoring Committee, Advisory Panel and staff

Adopt specifications for 2026-2027

Review and revise 2026-2027 commercial measures if needed

LUNCH

2026-2027 Black Sea Bass Specifications

Review recommendations from the SSC, Monitoring Committee, Advisory Panel and staff

Adopt specifications for 2026-2027

Review and revise 2026-2027 commercial measures if needed

White Paper on Separate OFLs and ABCs for Summer Flounder, Scup, and Black Sea Bass

Review SSC white paper and discuss next steps

Council Adjourns

ASMFC Summer Flounder, Scup, and Black Sea Bass Board Only

ASMFC Summer Flounder, Scup, and Black Sea Bass Fishery Management Plan review

Thursday, August 14

Swearing in of New Council Member and Election of officers

Business Session

Committee Reports (SSC, NTAP); Executive Director's Report; Organization Reports; and Liaison Reports

Other Business and General Public Comment

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c).

Special Accommodations

These meetings are physically accessible to people with disabilities. Requests for sign language interpretation or other auxiliary aid should be directed to Shelley Spedden, (302) 526-5251, at least 5 days prior to the meeting date.

Authority: 16 U.S.C. 1801 et seq.

Dated: July 24, 2025.
Rey Israel Marquez,
Acting Deputy Director, Office of Sustainable Fisheries, National Marine Fisheries Service.

[FR Doc. 2025-14186 Filed 7-25-25; 8:45 am]

BILLING CODE 3510-22-P